OFFICE OF PERSONNEL MANAGEMENT

5 CFR Part 532

RIN 3206-AM28

Prevailing Rate Systems; Redefinition of the Shreveport, LA; Texarkana, TX; Milwaukee, WI; and Southwestern Wisconsin Appropriated Fund Federal Wage System Wage Areas

AGENCY: U.S. Office of Personnel Management.

ACTION: Proposed rule with request for comments.

SUMMARY: The U.S. Office of Personnel Management is issuing a proposed rule that would redefine the geographic boundaries of the Shreveport, LA; Texarkana, TX; Milwaukee, WI; and Southwestern Wisconsin appropriated fund Federal Wage System (FWS) wage areas. The proposed rule would redefine Upshur County, TX, from the Texarkana wage area to the Shreveport wage area and Oconto County, WI, from the Southwestern Wisconsin wage area to the Milwaukee wage area. These changes are based on recent consensus recommendations of the Federal Prevailing Rate Advisory Committee to best match the counties proposed for redefinition to a nearby FWS survey area. No other changes are proposed for the Shreveport, Texarkana, Milwaukee, and Southwestern Wisconsin FWS wage areas.

DATES: We must receive comments on or before October 25, 2010.

ADDRESSES: Send or deliver comments to Jerome D. Mikowicz, Deputy Associate Director for Pay and Leave, Employee Services, U.S. Office of Personnel Management, Room 7H31, 1900 E Street, NW., Washington, DC 20415-8200; e-mail pay-performance-policy@opm.gov; or FAX: (202) 606-4264.

FOR FURTHER INFORMATION CONTACT: Madeline Gonzalez, (202) 606-2838; e-mail pay-performance-policy@opm.gov; or FAX: (202) 606-4264.

SUPPLEMENTARY INFORMATION: The U.S. Office of Personnel Management is issuing a proposed rule that would redefine the geographic boundaries of the Shreveport, LA; Texarkana, TX; Milwaukee, WI; and Southwestern Wisconsin appropriated fund Federal Wage System (FWS) wage areas. This proposed rule would redefine Upshur County, TX, from the Texarkana wage area to the Shreveport wage area and Oconto County, WI, from the Southwestern Wisconsin wage area to the Milwaukee wage area.

OPM considers the following regulatory criteria under 5 CFR 532.211 when defining FWS wage area boundaries:

(i) Distance, transportation facilities, and geographic features;

(ii) Commuting patterns; and

(iii) Similarities in overall population, employment, and the kinds and sizes of private industrial establishments.

In addition, OPM regulations at 5 CFR 532.211 do not permit splitting Metropolitan Statistical Areas (MSAs) for the purpose of defining a wage area, except in very unusual circumstances (e.g., organizational relationships among closely located Federal activities).

OPM recently completed reviews of the definitions of the Longview, TX and Green Bay, WI MSAs and, based on analyses of the regulatory criteria for defining wage areas, is proposing the changes described below. The Federal Prevailing Rate Advisory Committee (FPRAC), the national labor-management committee responsible for advising OPM on matters concerning the pay of FWS employees, recommended these changes by consensus. These changes would be effective on the first day of the first applicable pay period beginning on or after 30 days following publication of the final regulations. FPRAC recommended no other changes in the geographic definitions of the Shreveport, Texarkana, Milwaukee, and Southwestern Wisconsin wage areas.

Longview, TX Metropolitan Statistical Area

Gregg, Rusk, and Upshur Counties, TX, comprise the Longview, TX MSA. The Longview MSA is currently split between the Shreveport, LA, and Texarkana, TX, wage areas. Gregg and Rusk Counties are part of the area of application of the Shreveport wage area and Upshur County is part of the area of application of the Texarkana wage area.

Based on an analysis of the regulatory criteria for Gregg County, the core county in the Longview MSA, we recommend that the entire Longview MSA be defined to the Shreveport area of application. The distance criterion for Gregg County favors the Shreveport wage area more than the Texarkana wage area. All other criteria are inconclusive. However, even though the commuting patterns criterion is inconclusive, about 10 times as many people currently commute from Gregg County into the Shreveport survey area (0.47 percent of the resident workforce) than into the Texarkana survey area (0.05 percent). Based on this analysis, we believe Gregg County is appropriately defined to the Shreveport wage area. Since there appear to be no unusual circumstances that would permit splitting the Longview MSA, OPM proposes to redefine Upshur County to the Shreveport wage area so that the entire Longview MSA is in one wage area. There are currently no FWS employees working in Upshur County.

Green Bay, WI Metropolitan Statistical Area

Brown, Kewaunee and Oconto Counties, WI, comprise the Green Bay, WI MSA. The Green Bay MSA is currently split between the Milwaukee, WI, and Southwestern Wisconsin wage areas. Brown and Kewaunee Counties are part of the area of application of the Milwaukee wage area and Oconto County is part of the area of application of the Southwestern Wisconsin wage area.

Based on an analysis of the regulatory criteria for Brown County, the core county in the Green Bay MSA, we recommend that the entire Green Bay MSA be defined to the Milwaukee wage area. The distance criterion for Brown County favors the Milwaukee wage area more than the Southwestern Wisconsin wage area. All other criteria are inconclusive. Based on the mixed nature of our regulatory analysis findings, we believe Brown County is appropriately defined to the Milwaukee wage area. Since there appear to be no unusual circumstances that would permit splitting the Green Bay MSA, OPM proposes to redefine Oconto County to the Milwaukee wage area so that the entire Green Bay MSA is in one wage area. There are currently no FWS employees working in Oconto County.

Regulatory Flexibility Act

I certify that these regulations would not have a significant economic impact on a substantial number of small entities because they would affect only Federal agencies and employees.

List of Subjects in 5 CFR Part 532

Administrative practice and procedure, Freedom of information, Government employees, Reporting and recordkeeping requirements, Wages.

John Berry,
Director, U.S. Office of Personnel Management.

Accordingly, the U.S. Office of Personnel Management is proposing to amend 5 CFR part 532 as follows:

PART 532—PREVAILING RATE SYSTEMS

1. The authority citation for part 532 continues to read as follows:

Authority: 5 U.S.C. 5343, 5346; § 532.707 also issued under 5 U.S.C. 552.

2. Appendix C to subpart B is amended by revising the wage area listings for the Shreveport, LA; Texarkana, TX; Milwaukee, WI; and Southwestern Wisconsin wage areas to read as follows:

Appendix C to Subpart B of Part 532—Appropriated Fund Wage and Survey Areas

* * * * *

LOUISIANA

* * * * *

Shreveport

Survey Area

Louisiana: (parishes)

Bossier

Caddo

Webster

Area of Application. Survey Area Plus:

Louisiana: (parishes)

Bienville

Claiborne

De Soto

East Carroll

Jackson

Lincoln

Morehouse

Ouachita

Red River

Richland

Union

West Carroll

Texas:

Cherokee

Gregg

Harrison

Panola

Rusk

Upshur

* * * * *

TEXAS

* * * * *

Texarkana

Survey Area

Texas:

Bowie

Arkansas:

Little River

Miller

Area of Application. Survey Area Plus:

Texas:

Camp

Cass

Franklin

Marion

Morris

Red River

Titus

Arkansas:

Columbia

Hempstead

Howard

Lafayette

Nevada

Sevier

* * * * *

WISCONSIN

* * * * *

Milwaukee

Survey Area

Wisconsin:

Milwaukee

Ozaukee

Washington

Waukesha

Area of Application. Survey Area Plus:

Wisconsin:

Brown

Calumet

Door

Fond du Lac

Kewaunee

Manitowoc

Oconto

Outagamie

Racine

Sheboygan

Walworth

Winnebago

Southwestern Wisconsin

Survey Area

Wisconsin:

Chippewa

Eau Claire

La Crosse

Monroe

Trempealeau

Area of Application. Survey Area Plus:

Wisconsin:

Adams

Barron

Buffalo

Clark

Crawford

Dunn

Florence

Forest

Jackson

Juneau

Langlade

Lincoln

Marathon

Marinette

Menominee

Oneida

Pepin

Portage

Price

Richland

Rusk

Shawano

Taylor

Vernon

Vilas

Waupaca

Waushara

Wood

Minnesota:

Fillmore

Houston

Wabasha

Winona

* * * * *

[FR Doc. 2010-23956 Filed 9-23-10; 8:45 am]

BILLING CODE 6325-39-P